ENVIRONMENTAL PROTECTION AGENCY

[OAR-2003-0052; FRL-7991-6]

Agency Information Collection Activities; Submission to OMB for Review and Approval; Comment Request; Risk Management Program Requirements and Petitions To Modify the List of Regulated Substances under Section 112(r) of the Clean Air Act (Renewal), EPA ICR Number 1656.12, OMB Control Number 2050-0144

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on October 31, 2005. Under OMB regulations, the Agency may continue to conduct or sponsor the collection of information while this submission is pending at OMB. This ICR describes the nature of the information collection and its estimated burden and cost.

DATES: Additional comments may be submitted on or before December 1, 2005.

ADDRESSES: Submit your comments, referencing docket ID number OAR-2003-0052, to (1) EPA online using EDOCKET (our preferred method), by e-mail to a-and-r-Docket@epa.gov, or by mail to: EPA Docket Center, Environmental Protection Agency, Mail Code 6102T, Air Docket, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Sicy Jacob, 5104A, Office of Solid Waste and Emergency Response, Office of Emergency Management, Environmental Protection Agency, 1200 Pennsylvania Ave., NW., Washington, DC 20460; telephone number: (202) 564-8019; fax number: (202) 564-2625; e-mail address: jacob.sicy@epa.gov.

SUPPLEMENTARY INFORMATION: EPA has submitted the following ICR to OMB for review and approval according to the procedures prescribed in 5 CFR 1320.12. On June 2, 2005 (70 FR 32325), EPA sought comments on this ICR pursuant to 5 CFR 1320.8(d). EPA received only one comment. The Agency's response is included in the supporting statement.

EPA has established a public docket for this ICR under Docket ID No. OAR-2003-0052, which is available for public viewing at the Air and Radiation Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Risk Management Program Requirements and Petitions to Modify the List of Regulated Substances under Section 112(r) of the Clean Air Act (Renewal).

Abstract: The 1990 CAA Amendments added section 112(r) to provide for the prevention and mitigation of accidental releases. Section 112(r) mandates that EPA promulgate a list of “regulated substances,” with threshold quantities and establish procedures for the addition and deletion of substances from the list of “regulated substances.” Processes at stationary sources that contain a threshold quantity of a regulated substance are subject to accidental release prevention regulations promulgated under CAA section 112(r)(7). These two rules are codified as 40 CFR part 68. Part 68 requires that sources with more than a threshold quantity of a regulated substance in a process develop and implement a risk management program and submit a risk management plan (RMP) to EPA. The compliance schedule for the part 68 requirements was established by rule on June 20, 1996. Burden to sources that are currently covered by part 68, for initial rule compliance, including rule familiarization and program implementation were accounted for in ICR 1656.03. Sources submitted their first RMPs on June 21, 1999. The next compliance deadline was June 21, 2004, five years after the first submission. Some of the sources revised and submitted their RMPs between the mandatory deadlines. These sources were then assigned a five-year compliance deadline based on the date of their revised plan submission. The next submission of RMPs for all sources is by June 21, 2009. The period covered by this ICR is between the two mandatory deadlines (2004 and 2009). Therefore, in this ICR, EPA has accounted for only on-going program implementation costs for all sources that are currently covered by part 68 requirements, compliance costs for new sources that may become subject to the regulations, and burden for sources that re-submit RMPs before the next compliance deadline.

An agency may not conduct or sponsor, and a person is not required to respond to, a collection of information unless it displays a currently valid OMB control number. The OMB control numbers for EPA's regulations in 40 CFR are listed in 40 CFR part 9 and are identified on the form and/or instrument, if applicable.

Burden Statement: The public reporting burden will depend on the regulatory program tier into which sources are categorized. In this ICR, the public reporting burden for rule familiarization for new sources is estimated to range from 20 to 40 hours per source. The public reporting burden to prepare and submit a RMP for new sources is estimated to range from 10 to 30 hours. The public reporting burden for new sources to develop prevention programs is estimated to range from 70 to 95 hours per source. The public reporting burden for CBI claims is estimated to be 9.5 hours per source. Burden for RMP revisions is estimated to range from 10 to 40 hours per source. The public record keeping burden to maintain on-site documentation for currently covered sources is estimated to range from 3 hours to 146 hours. The total annual public reporting burden for new sources to become familiar with the rule, develop and submit a RMP, develop prevention program, substantiate claims for confidential business information, submit revised RMPs, and develop on-site documentation for existing sources is about 92,442 hours (277,326 hours over three years). The total annual burden estimated for 15 states that may be implementing a Part 68 program is 6,157 hours (18,471 hours for three years). Therefore, the total annual burden for all sources and states is estimated to be 98,599 hours (295,797 hours for three years).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Chemical manufacturers, petroleum refineries, water treatment systems, non-chemical manufacturers, etc.

Estimated Number of Respondents: 1,397, including state implementing agencies.

Frequency of Response: Every five years, unless the facilities need to update their previous submission.

Estimated Total Annual Hour Burden: 98,599 hours.

Estimated Total Annual Cost: $3,582,614, which includes $0 annualized capital, $6,910 O&M costs, and $3,575,704 Respondent Labor costs.

Changes in the Estimates: There is a decrease of 32,204 hours in the total estimated burden currently identified in the OMB Inventory of Approved ICR Burdens. This decrease is mainly due to the RMP submission schedule. The last submission of RMPs by all sources was in June 2004. The next compliance deadline is June 2009, which is after this ICR period. This ICR only accounts for compliance burden for new sources that may become subject to the regulations, any revised RMP that may be submitted by existing sources, and on-site documentation for existing sources. The burden may increase in the next ICR renewal since the next deadline for all sources to submit RMPs will fall within the next ICR period.

Dated: October 24, 2005.
Oscar Morales,
Director, Collection Strategies Division.

[FR Doc. 05-21761 Filed 10-31-05; 8:45 am]

BILLING CODE 6560-50-P